ENVIRONMENTAL PROTECTION AGENCY

[9977-46-OEI]

Cross-Media Electronic Reporting: Authorized Program Revision Approval, Commonwealth of Massachusetts

AGENCY: Environmental Protection Agency (EPA).

ACTION: Notice.

SUMMARY: This notice announces EPA's approval of the Commonwealth of Massachusetts' request to revise/modify certain of its EPA-authorized programs to allow electronic reporting.

DATES: EPA approves the authorized program revision for the Commonwealth of Massachusetts' National Primary Drinking Water Regulations Implementation as of August 15, 2018, if no timely request for a public hearing is received and accepted by the Agency. EPA approves the other authorized program revisions/modifications as of July 16, 2018.

FOR FURTHER INFORMATION CONTACT: Devon Martin, U.S. Environmental Protection Agency, Office of Environmental Information, Mail Stop 2823T, 1200 Pennsylvania Avenue NW, Washington, DC 20460, (202) 566-2603, martin.devon@epa.gov.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that state, tribal or local government agencies that receive, or wish to begin receiving, electronic reports under their EPA-authorized programs must apply to EPA for a revision or modification of those programs and obtain EPA approval. Subpart D provides standards for such approvals based on consideration of the electronic document receiving systems that the state, tribe, or local government will use to implement the electronic reporting. Additionally, § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On September 8, 2017, the Massachusetts Department of Environmental Protection (MassDEP) submitted an application titled “EEA ePLACE Platform” for revisions/modifications to its EPA-approved programs under title 40 CFR to allow new electronic reporting. EPA reviewed MassDEP's request to revise/modify its EPA-authorized programs and, based on this review, EPA determined that the application met the standards for approval of authorized program revisions/modifications set out in 40 CFR part 3, subpart D. In accordance with 40 CFR 3.1000(d), this notice of EPA's decision to approve Massachusetts's request to revise/modify its following EPA-authorized programs to allow electronic reporting under 40 CFR parts 50-52, 61-63, 65, 70, 141, 144, 146, 240-259, 260-270, 272-279, and 280, is being published in the Federal Register:

Part 52—Approval and Promulgation of Implementation Plans;

Part 61—National Emission Standards for Hazardous Air Pollutants, Subpart M, Asbestos;

Part 62—Approval and Promulgation of State Plans for Designated Facilities and Pollutants;

Part 63—National Emission Standards for Hazardous Air Pollutants for Source Categories;

Part 70—State Operating Permit Programs;

Part 142—National Primary Drinking Water Regulations Implementation;

Part 145—State Underground Injection Control Programs;

Part 239—Requirements for State Permit Program Determination of Adequacy;

Part 271—Requirements for Authorization of State Hazardous: Waste Program; and

Part 281—Technical Standards and Corrective Action Requirements for Owners and Operators of Underground Storage Tanks.

Specifically, EPA has approved the state's authorized program revisions for electronic submissions that include a handwritten signature on a separate paper submission report instead of an electronic signature.

MassDEP was notified of EPA's determination to approve its application with respect to the authorized programs listed above.

Also, in this notice, EPA is informing interested persons that they may request a public hearing on EPA's action to approve the Commonwealth of Massachusetts' request to revise its National Primary Drinking Water Regulations implementation program under 40 CFR part 142, in accordance with 40 CFR 3.1000(f), to allow for electronic reporting. Requests for a hearing must be submitted to EPA within 30 days of publication of today's Federal Register notice. Such requests should include the following information: (1) The name, address and telephone number of the individual, organization or other entity requesting a hearing; (2) A brief statement of the requesting person's interest in EPA's determination, a brief explanation as to why EPA should hold a hearing, and any other information that the requesting person wants EPA to consider when determining whether to grant the request; (3) The signature of the individual making the request, or, if the request is made on behalf of an organization or other entity, the signature of a responsible official of the organization or other entity.

In the event a hearing is requested and granted, EPA will provide notice of the hearing in the Federal Register not less than 15 days prior to the scheduled hearing date. Frivolous or insubstantial requests for hearing may be denied by EPA. Following such a public hearing, EPA will review the record of the hearing and issue an order either affirming today's determination or rescinding such determination. If no timely request for a hearing is received and granted, EPA's approval of the Commonwealth of Massachusetts' request to revise its part 142—National Primary Drinking Water Regulations Implementation program to allow electronic reporting will become effective 30 days after today's notice is published, pursuant to CROMERR section 3.1000(f)(4).

Matthew Leopard,
Director, Office of Information Management.

[FR Doc. 2018-15135 Filed 7-13-18; 8:45 am]

BILLING CODE 6560-50-P